DEPARTMENT OF DEFENSE

Office of the Secretary

Notification of an “Open Meeting” of the National Defense University Visitors (BOV)

AGENCY: Department of Defense; National Defense University.

ACTION: Notice of “Open Meeting.”

SUMMARY: The National Defense University (NDU), Designated Federal Officer, has scheduled a meeting of the Board of Visitors. Request subject notice be published in the Federal Register. The National Defense University Board of Visitors is a Federal Advisory Board. The Board meets twice a year in proceedings that are open to the public.

DATES: The meeting will be held on May 21-22, 2007 from 1100 to 1700 on the 21st and continuing on the 22nd from 0830 to 1330.

Location: The Board of Visitors meeting will be held at Building 62, Marshall Hall, Room 155, National Defense University, 300 5th Avenue, Fort McNair, Washington, DC 20319-5066.

FOR FURTHER INFORMATION CONTACT: The point of contact for this notice of an “Open Meeting” is Mr. Roy Austin (202) 685-2649, Fax (202) 685-3935 or Austin R4@ndu.edu.

SUPPLEMENTARY INFORMATION: State of the University, National Security Education, Accreditation, and Federal Policy. The meeting is open to the public; limited space is made available for observers and will be allocated on a first come first serve basis.

Dated: May 1, 2007.
L.M. Bynum,
Alternate OSD Federal Register Liaison Officer, DoD.

[FR Doc. 07-2420 Filed 5-15-07; 9:25 am]

BILLING CODE 5001-06-M